ENVIRONMENTAL PROTECTION AGENCY

[FRL-7895-5]

Clean Water Act Section 303(d): Final Agency Action on 2 Total Maximum Daily Loads (TMDLs)

AGENCY: Environmental Protection Agency (EPA).

ACTION: Notice of availability.

SUMMARY: This notice announces final agency action on 2 TMDLs prepared by EPA Region 6 for waters listed in Louisiana's Barataria river basin, under section 303(d) of the Clean Water Act (CWA). Documents from the administrative record file for the 2 TMDLs, including TMDL calculations and responses to comments, may be viewed at http://www.epa.gov/region6/water/tmdl.htm. The administrative record file may be examined by calling or writing Ms. Diane Smith at the following address. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on 2 TMDLs

By this notice EPA is taking final agency action on the following 2 TMDLs for waters located within the Barataria river basin:

Subsegment | Waterbody name | Pollutant
020401 | Bayou Lafourche—Donaldville to Intracoastal Waterway at Larose | Dissolved Oxygen Nutrients.
020401 | Bayou Lafourche—Donaldville to Intracoastal Waterway at Larose | Do.

EPA requested the public to provide EPA with any significant data or information that might impact the 2 TMDLs in the Federal Register Notice 69 FR pages 5985-5986 (February 9, 2004). The comments received and the EPA's response to comments may be found at http://www.epa.gov/region6/water/tmdl.htm.

Dated: March 29, 2005.
Miguel I. Flores,
Director, Water Quality Protection Division, EPA Region 6.

[FR Doc. 05-6707 Filed 4-4-05; 8:45 am]

BILLING CODE 6560-50-P